DEPARTMENT OF ENERGY

Federal Energy Regulatory Commission

[Docket No. CP05-7-000]

Natural Gas Pipeline Company of America; Notice of Application

October 22, 2004.

Take notice that on October 18, 2004, Natural Gas Pipeline Company of America (Natural), 747 East 22nd Street, Lombard, Illinois 60148, filed in Docket No. CP05-7-000 an application pursuant to sections 7(b) and 7(c) of the Natural Gas Act, for permission and approval to abandon certain storage field surface piping, and for authority to construct and operate additional facilities at its Sayre Storage Field located in Beckham County, Oklahoma. By this application, Natural seeks to: Provide an additional 10 Bcf of Nominated Storage Service (NSS) on Natural's Amarillo mainline system, increase Sayre's certificated peak day withdrawal from 400 MMcf/d to 600 MMcf/d, and increase Sayre's maximum working gas capacity to 57.1 Bcf, all as more fully described in the request which is on file with the Commission and open to public inspection. This filing may also be viewed on the Web at http://www.ferc.gov using the “eLibrary” link, select “Docket #” and follow the instructions. For assistance, please contact FERC Online Support at FERCOnlineSupport@ferc.gov or toll-free at (866) 208-3676, or TTY, contact (202) 502-8659.

Any questions regarding this application should be directed to Robert Wallace, Director, Storage Operations, Natural Gas Pipeline Company of America, 747 East 22nd Street, Lombard, Illinois 60148 or by phone at (630) 691-3780.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered. The second way to participate is by filing with the Secretary of the Commission, as soon as possible, an original and two copies of comments in support of or in opposition to this project. The Commission will consider these comments in determining the appropriate action to be taken; but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's Web site under the “e-Filing” link. The Commission strongly encourages electronic filings.

Comment Date: November 12, 2004.

Magalie R. Salas,
Secretary.

[FR Doc. E4-2881 Filed 10-27-04; 8:45 am]

BILLING CODE 6717-01-P